DEPARTMENT OF ENERGY

Federal Energy Regulatory Commission

[Project No. 2409-120; Project Nos. 420-016 and 1922-035; Project No. 2442-058; Project No. 2975-017; Project Nos. 2005-010 and 2067-017; Project Nos. 1510-013, 2558-021; 2677-013, and 2715-021; Project No. 3083-094; Project Nos. 3190-017, 3193-017, and 619-094]

Notice Redesignating Proceeding; Calaveras County Water District, Ketchikan Public Utilities, City of Watertown, New York, Tri-Dam Power Authority, Oakdale and South San Joaquin Irrigation Districts, City of Kaukauna, Wisconsin, Oklahoma Municipal Power Authority, City of Santa Clara, California

September 13, 2001.

On July 16, 2001, the Commission's Chief Accountant issued Fiscal Year (FY) 2001 administrative annual charges bills to licensees for hydroelectric projects licensed by the Commission. The FY 2001 annual charges bills for licensees who appealed their FY 1999 and FY 2000 annual charges bills with respect to administrative costs related to the administration of Part I of the Federal Power Act by other federal agencies (OFAs) include credits for OFA costs disallowed from the FY 1999 and FY 2000 annual charges bills pursuant to certain prior Commission orders.¹ On August 15, 2001, the licensees appearing in the caption of this notice filed a request for rehearing of their FY 2001 annual charges bills with respect to the credits therein for OFA costs disallowed from the FY 1999 and FY 2000 bills. The licensees' request for rehearing is premature. The pleading will instead be treated as an appeal of the FY 2001 annual charges bills, as provided for in Section 11.20 of the Commission's regulations, 18 C.F.R. 11.20, with respect to administrative annual charges.

¹ See City of Idaho Falls, Idaho, et al., 93 FERC ¶ 61,145 (2000); City of Idaho Falls, Idaho, et al., 95 FERC ¶ 61,126 (2001), and City of Tacoma, Washington, et al., 95 FERC ¶ 61,145 (2001).

David P. Boergers,
Secretary

[FR Doc. 01-23386 Filed 9-19-01; 8:45 am]

BILLING CODE 6717-01-P